DEPARTMENT OF ENERGY

Federal Energy Regulatory Commission

[Docket No. AD10-12-004]

Increasing Market and Planning Efficiency Through Improved Software; Supplemental Agenda Notice

Take notice that Commission staff will convene a technical conference on June 24, 25, and 26, 2013 to discuss opportunities for increasing real-time and day-ahead market efficiency through improved software. A detailed agenda with the list of times for the selected speakers and presentation abstracts will be published on the Commission's Web site ¹ after May 13, 2013.

¹ http://ferc.gov/industries/electric/indus-act/market-planning/2013-conference.asp.

This conference will bring together diverse experts from public utilities, the software industry, government, research centers and academia and is intended to build on the discussions initiated in the previous Commission staff technical conferences on increasing market and planning efficiency through improved software.

The agenda for this conference is attached. If any changes occur, the revised agenda will be posted on the calendar page for this event on the Commission's Web site (www.ferc.gov) prior to the event.

Dated: May 20, 2013.
Kimberly D. Bose,
Secretary.

BILLING CODE 6717-01-P

[FR Doc. 2013-12509 Filed 5-24-13; 8:45 am]

BILLING CODE 6717-01-C